DEPARTMENT OF LABOR

Employment and Training Administration

[TA-W-53,951]

Millenium A.R. Haire, Thomasville, NC; Notice of Termination of Investigation

Pursuant to section 221 of the Trade Act of 1974, as amended, an investigation was initiated on January 7, 2004 in response to a petition filed by a company official on behalf of workers at Millenium A.R. Haire, Thomasville, North Carolina.

The petition regarding the investigation has been deemed invalid. Consequently, further investigation in this case would serve no purpose, and the investigation has been terminated.

Signed at Washington, DC this 30th day of January, 2004.
Linda G. Poole,
Certifying Officer, Division of Trade Adjustment Assistance.

[FR Doc. 04-3315 Filed 2-13-04; 8:45 am]

BILLING CODE 4510-30-P